NUCLEAR REGULATORY COMMISSION

[NRC-2010-0192]

Biweekly Notice: Applications and Amendments to Facility Operating Licenses Involving No Significant Hazards Considerations

I. Background

Pursuant to section 189a.(2) of the Atomic Energy Act of 1954, as amended (the Act), the U.S. Nuclear Regulatory Commission (the Commission or NRC) is publishing this regular biweekly notice. The Act requires the Commission publish notice of any amendments issued, or proposed to be issued and grants the Commission the authority to issue and make immediately effective any amendment to an operating license upon a determination by the Commission that such amendment involves no significant hazards consideration, notwithstanding the pendency before the Commission of a request for a hearing from any person.

This biweekly notice includes all notices of amendments issued, or proposed to be issued from May 6 to May 19, 2010. The last biweekly notice was published on May 18, 2010 (75 FR 27825).

Notice of Consideration of Issuance of Amendments to Facility Operating Licenses, Proposed No Significant Hazards Consideration Determination, and Opportunity for a Hearing

The Commission has made a proposed determination that the following amendment requests involve no significant hazards consideration. Under the Commission's regulations in Title 10 of the Code of Federal Regulations (10 CFR) 50.92, this means that operation of the facility in accordance with the proposed amendment would not: (1) Involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Written comments may be submitted by mail to the Chief, Rules, Announcements, and Directives Branch (RADB), TWB-05-B01M, Division of Administrative Services, Office of Administration, U.S. Nuclear Regulatory Commission, Washington, DC 20555-0001, and should cite the publication date and page number of this Federal Register notice. Written comments may also be faxed to the RADB at 301-492-3446. Documents may be examined, and/or copied for a fee, at the NRC's Public Document Room (PDR), located at One White Flint North, Public File Area O1F21, 11555 Rockville Pike (first floor), Rockville, Maryland.

Within 60 days after the date of publication of this notice, any person(s) whose interest may be affected by this action may file a request for a hearing and a petition to intervene with respect to issuance of the amendment to the subject facility operating license. Requests for a hearing and a petition for leave to intervene shall be filed in accordance with the Commission's “Rules of Practice for Domestic Licensing Proceedings” in 10 CFR part 2. Interested person(s) should consult a current copy of 10 CFR 2.309, which is available at the Commission's PDR, located at One White Flint North, Public File Area O1F21, 11555 Rockville Pike (first floor), Rockville, Maryland. Publicly available records will be accessible from the Agencywide Documents Access and Management System's (ADAMS) Public Electronic Reading Room on the Internet at the NRC Web site, http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, any hearing held would take place before the issuance of any amendment.

All documents filed in NRC adjudicatory proceedings, including a request for hearing, a petition for leave to intervene, any motion or other document filed in the proceeding prior to the submission of a request for hearing or petition to intervene, and documents filed by interested governmental entities participating under 10 CFR 2.315(c), must be filed in accordance with the NRC E-Filing rule (72 FR 49139, August 28, 2007). The E-Filing process requires participants to submit and serve all adjudicatory documents over the internet, or in some cases to mail copies on electronic storage media. Participants may not submit paper copies of their filings unless they seek an exemption in accordance with the procedures described below.

To comply with the procedural requirements of E-Filing, at least ten (10) days prior to the filing deadline, the participant should contact the Office of the Secretary by e-mail at hearing.docket@nrc.gov, or by telephone at (301) 415-1677, to request (1) a digital ID certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on NRC's public Web site at http://www.nrc.gov/site-help/e-submittals/apply-certificates.html. System requirements for accessing the E-Submittal server are detailed in NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through EIE, users will be required to install a Web browser plug-in from the NRC Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with NRC guidance available on the NRC public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an e-mail notice confirming receipt of the document. The E-Filing system also distributes an e-mail notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the agency's adjudicatory E-Filing system may seek assistance by contacting the NRC Meta System Help Desk through the “Contact Us” link located on the NRC Web site at http://www.nrc.gov/site-help/e-submittals.html, by e-mail at MSHD.Resource@nrc.gov, or by a toll-free call at (866) 672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in NRC's electronic hearing docket which is available to the public at http://ehd.nrc.gov/EHD_Proceeding/home.asp, unless excluded pursuant to an order of the Commission, or the presiding officer. Participants are requested not to include personal privacy information, such as social security numbers, home addresses, or home phone numbers in their filings, unless an NRC regulation or other law requires submission of such information. With respect to copyrighted works, except for limited excerpts that serve the purpose of the adjudicatory filings and would constitute a Fair Use application, participants are requested not to include copyrighted materials in their submission.

Petitions for leave to intervene must be filed no later than 60 days from the date of publication of this notice. Non-timely filings will not be entertained absent a determination by the presiding officer that the petition or request should be granted or the contentions should be admitted, based on a balancing of the factors specified in 10 CFR 2.309(c)(1)(i)-(viii).

For further details with respect to this license amendment application, see the application for amendment which is available for public inspection at the Commission's PDR, located at One White Flint North, Public File Area O1F21, 11555 Rockville Pike (first floor), Rockville, Maryland. Publicly available records will be accessible from the ADAMS Public Electronic Reading Room on the Internet at the NRC Web site, http://www.nrc.gov/reading-rm/adams.html. Persons who do not have access to ADAMS or who encounter problems in accessing the documents located in ADAMS, should contact the NRC PDR Reference staff at 1-800-397-4209, 301-415-4737, or by e-mail to pdr.resource@nrc.gov.

Calvert Cliffs Nuclear Power Plant, LLC, Docket Nos. 50-317 and 50-318, Calvert Cliffs Nuclear Power Plant, Unit Nos. 1 and 2, Calvert County, Maryland

Date of amendment requests: April 5, 2010.

Description of amendments request: The amendment would make title changes and corrections within Technical Specification (TS) 5.0, “Administrative Controls.” Specifically, the proposed changes would include:

(1) Replacement of the use of plant-specific titles to generic titles consistent with TS Task Force (TSTF) Traveler TSTF-65, Revision 1, “Use of Generic Titles for Utility Positions,”

(2) Changes made to more closely align selected TSs with the Improved Standard TSs, and

(3) Administrative changes to specified TSs.

Basis for proposed no significant hazards consideration determination: As required by 10 CFR 50.91(a), the licensee has provided its analysis of the issue of no significant hazards consideration, which is presented below:

1. Does the proposed amendment involve a significant increase in the probability or consequences of an accident previously evaluated?

No.

The first portion of the proposed change, involving adoption of a generic title vice a plant specific personnel title, is administrative in nature. As such, this change does not involve any change to the design basis of the plant or of any structure, system, or component. As a result there is no change to the probability or consequences of any previously evaluated accident.

The second portion of the proposed change involves changes to Technical Specifications that align them to the words used in the Improved Standard Technical Specifications for gaseous effluents to include effluents that are already routinely monitored. In addition, the proposed change in requiring either the operations manager or assistant operations manager to hold a Senior Reactor Operator (SRO) license meets the established standards of American National Standards Institute N18.1-1971 for individuals filling the applicable positions. These changes do not involve any change to the design basis of the plant or of any structure, system, or component. As a result there is no change to the probability or consequences of any previously evaluated accident.

The third portion of the proposed change involves administrative changes that do not involve any change to the design basis of the plant or of any structure, system, or component. As a result there is no change to the probability or consequences of any previously evaluated accident.

Therefore, operation of the facility in accordance with the proposed changes will not involve a significant increase in the probability or consequence of an accident previously evaluated.

2. Does the proposed amendment create the possibility of a new or different kind of accident from any accident previously evaluated?

No.

The first portion of the proposed change, involving adoption of a generic title vice a plant specific personnel title is administrative in nature. As such, this change does not result in any physical alterations to the plant configuration, make any change to plant operation, or alter any design function. As a result no new accident failure mechanisms or single failures are introduced.

The second portion of the proposed change involves changes to Technical Specifications that align those Technical Specifications to the words used in the Improved Standard Technical Specifications for gaseous effluent monitoring to include certain effluents that are already routinely monitored. In addition, the proposed change requiring either the operations manager or assistant operations manager to hold an SRO license meets the established standards of American National Standards Institute N18.1-1971 for individuals filling the applicable positions. These changes do not involve any change to the design basis of the plant or of any structure, system, or component. As a result no new accident failure mechanisms or single failures are introduced.

The third portion of the proposed change involves administrative changes that do not involve any change to the design basis of the plant or of any structure, system, or component. As a result no new accident failure mechanisms or single failures are introduced.

Therefore, operation of the facility in accordance with the proposed changes will not involve a significant increase in the probability or consequence of an accident previously evaluated.

3. Does the proposed amendment involve a significant reduction in a margin of safety?

No.

The first portion of the proposed change, involving adoption of a generic title vice a plant specific personnel title is administrative in nature. As such, this change involves no change to the design bases functions or to the controlling values of parameters used to avoid exceeding regulatory or licensing limits. As a result there is no decrease in any margin of safety due to this proposed change.

The second portion of the proposed change involves changes to Technical Specifications that align those Technical Specifications to the words used in the Improved Standard Technical Specifications for gaseous effluent monitoring to include certain effluents that are already routinely monitored. In addition, the proposed change requiring either the operations manager or assistant operations manager to hold an SRO license meets the established standards of American National Standards Institute N18.1-1971 for individuals filling the applicable positions. As such, these changes involve no change to the design bases functions or to the controlling values of parameters used to avoid exceeding regulatory or licensing limits. As a result there is no decrease in any margin of safety due to these proposed changes.

The third portion of the proposed change involves administrative changes that do not involve any change to the design basis of the plant or of any structure, system, or component. As such, these changes involve no change to the design bases functions or to the controlling values of parameters used to avoid exceeding regulatory or licensing limits. As a result there is no decrease in any margin of safety due to these proposed changes.

Therefore, operation of the facility in accordance with the proposed changes will not involve a significant reduction in a margin of safety.

The NRC staff has reviewed the licensee's analysis and, based on this review, it appears that the three standards of 10 CFR 50.92(c) are satisfied. Therefore, the NRC staff proposes to determine that the amendments request involves no significant hazards consideration.

Attorney for licensee: Carey Fleming, Sr. Counsel—Nuclear Generation, Constellation Generation Group, LLC, 750 East Pratt Street, 17th floor, Baltimore, MD 21202.

NRC Branch Chief: Nancy L. Salgado.

Carolina Power and Light Company, Docket No. 50-261, H. B. Robinson Steam Electric Plant, Unit No. 2, Darlington County, South Carolina

Date of amendment request: March 5, 2010.

Description of amendment request: The proposed change would revise H. B. Robinson Steam Electric Plant's Technical Specifications (TS) Section 3.3.2, “Engineered Safety Feature Actuation System (ESFAS) Instrumentation,” to allow the performance of maintenance activities for an inoperable containment pressure-high high channel. The proposed change to TS 3.3.6, “Containment Ventilation Isolation Instrumentation,” corrects an error related to table references.

Basis for proposed no significant hazards consideration determination: As required by 10 CFR 50.91(a), the licensee has provided its analysis of the issue of no significant hazards consideration, which is presented below:

1. The Proposed Change Does Not Involve a Significant Increase in the Probability or Consequences of an Accident Previously Evaluated.

The proposed changes to TS 3.3.2 are intended to allow for the performance of maintenance activities required to return an inoperable channel to service with the instrumentation and plant in a condition that reduces the probability of an inadvertent transient or the need for a plant shutdown. Therefore, the proposed change reduces the probability of an accident because the likelihood of accident initiation is decreased.

The emergency safety features that are actuated by the Containment Pressure-High High channels are Main Steam Line Isolation, Containment Spray, and Containment Phase B isolation. These safety features are intended to reduce the consequences of design basis accident scenarios. These safety features are still expected to function as designed. Actuation from containment pressure exceeding the High High trip setpoint will still occur with one trip signal bypassed based on the input from the other five channels. Should an additional failure result in the inability to actuate based on Containment Pressure-High High, there are other means to actuate these safety features in a timely manner. Main Steam Line Isolation based on High High containment pressure is only important for the assumed main steam line break inside containment. For such an accident, main steam line isolation will still automatically occur from either High Steam Flow in Two Steam Lines Coincident with Tavg-Low, or High Steam Flow in Two Steam Lines Coincident with Steam Line Pressure-Low. In regard to Containment Spray and Containment Phase B Isolation, the operator can manually initiate these functions if automatic actuation did not occur and containment conditions warranted actuation. Therefore, there will not be a significant increase in the consequences of analyzed accidents.

The proposed change to TS 3.3.6 is an administrative correction and there will be no actual changes to plant design or operation.

Therefore, operation of the facility in accordance with the proposed amendment would not involve a significant increase in the probability or consequences of an accident previously evaluated.

2. The Proposed Change Does Not Create the Possibility of a New or Different Kind of Accident From Any Previously Evaluated.

As described above, the proposed change to TS 3.3.2 would allow a single Containment Pressure-High High channel to not be in the trip condition for maintenance purposes for a limited period of time (up to six hours). This is a condition that is already allowed during the first six hours of the action statement.

Therefore, no new accident initiators or precursors are introduced by the proposed change.

The proposed change to TS 3.3.6 is an administrative correction and there will be no actual changes to plant design or operation.

Therefore, operation of the facility in accordance with the proposed amendment would not create the possibility of a new or different kind of accident from any previously evaluated.

3. The Proposed Change Does Not Involve a Significant Reduction in the Margin of Safety.

As described above, the proposed change to TS 3.3.2 would allow a single Containment Pressure-High High channel to not be in the trip condition for a limited period of time (up to six hours) to allow an effective means of maintenance to return an inoperable channel to service. It is expected that safety systems will continue to function as designed with a single channel not in trip and therefore there will be no impact on the accident analyses or a reduction in the margin of safety.

The proposed change to TS 3.3.6 is an administrative correction and there will be no actual changes to plant design or operation.

Therefore, operation of the facility in accordance with the proposed amendment would not involve a significant reduction in the margin of safety.

The NRC staff has reviewed the licensee's analysis and, based on this review, it appears that the three standards of 10 CFR 50.92(c) are satisfied. Therefore, the NRC staff proposes to determine that the amendment request involves no significant hazards consideration.

Attorney for licensee: David T. Conley, Associate General Counsel II—Legal Department, Progress Energy Service Company, LLC, Post Office Box 1551, Raleigh, North Carolina 27602.

NRC Acting Branch Chief: Douglas A. Broaddus.

Duke Energy Carolinas, LLC, et al., Docket Nos. 50-413 and 50-414, Catawba Nuclear Station, Units 1 and 2, York County, South Carolina

Date of amendment request: September 3, 2009.

Description of amendment request: The amendments would revise the Technical Specification (TS) Section 3.7.10, “Control Room Area Ventilation System (CRAVS),” to allow movement of irradiated fuel with only one CRAVS train OPERABLE.

Basis for proposed no significant hazards consideration determination: As required by 10 CFR 50.91(a), the licensee has provided its analysis of the issue of no significant hazards consideration, which is presented below:

1. Does the proposed change involve a significant increase in the probability or consequences of an accident previously evaluated?

The proposed changes do not adversely affect accident initiators or precursors nor alter the design assumptions, conditions, or configurations of the facility. The proposed changes do not alter or prevent the ability of structure, systems and components (SSCS) to perform their intended function to mitigate the consequences of an initiating event within the assumed acceptance limits. This is a revision to the TS for the control room ventilation system which is a mitigation system designed to minimize unfiltered air inleakage into the control room and to filter the Control Room atmosphere to protect occupants following an accident previously analyzed. The Control Room ventilation system is not an initiator or precursor to any accident previously evaluated. Therefore, the probability or consequences of any accident previously evaluated are not increased.

2. Does the proposed change create the possibility of a new or different kind of accident from any accident previously evaluated?

This revision will not impact the accident analysis. The change will not alter the requirements of the Control Room ventilation system or its function during accident conditions. No new or different accidents result from the changes proposed. The changes do not involve a physical alteration of the plant (i.e., no new or different type of equipment will be installed) or significant changes in methods governing normal plant operation. The changes do not alter assumptions made in the safety analysis. The proposed changes are consistent with the safety analyses assumptions. Therefore, it is concluded that these changes do not create the possibility of a new or different kind of accident from any accident previously evaluated.

3. Does the proposed change involve a significant reduction in margin of safety?

The proposed changes do not alter the manner in which safety limits, limiting safety system settings or limiting conditions for operations are determined. The safety analysis acceptance criteria are not affected by these changes. The proposed changes will not result in plant operation in a configuration outside the design basis for an acceptable period of time without compensatory measures. The proposed changes do not adversely affect systems that respond to safely shutdown the plant and to maintain the plant in a safe shutdown condition. It is therefore concluded that the proposed changes do not involve a significant reduction in the margin of safety.

The NRC staff has reviewed the licensee's analysis and, based on this review, it appears that the three standards of 10 CFR 50.92(c) are satisfied. Therefore, the NRC staff proposes to determine that the amendment request involves no significant hazards consideration.

Attorney for licensee: Ms. Lisa F. Vaughn, Associate General Counsel and Managing Attorney, Duke Energy Carolinas, LLC, 526 South Church Street, EC07H, Charlotte, NC 28202.

NRC Branch Chief: Gloria Kulesa.

Energy Northwest, Docket No. 50-397, Columbia Generating Station, Benton County, Washington

Date of amendment request: March 29, 2010.

Description of amendment request: The proposed change revises the Technical Specifications (TSs) to delete channel check surveillance requirements in TS 3.3.6.1, “Primary Containment Isolation Instrumentation,” for the traversing in-core probe (TIP) isolation instrumentation.

Basis for proposed no significant hazards consideration determination: As required by 10 CFR 50.91(a), the licensee has provided its analysis of the issue of no significant hazards consideration, which is presented below:

1. Does the proposed change involve a significant increase in the probability or consequences of an accident previously evaluated?

Response: No.

The proposed change revises TS 3.3.6.1 by eliminating a channel check SR [surveillance requirement]. The controls and requirements of TS[s] otherwise continue to be enforced. The proposed change does not affect any plant equipment, test methods, or plant operation, and does not affect the initiation of any analyzed accident sequence. The allowance to un-isolate a penetration flow path is preserved and will not have a significant effect on the mitigation of any accident previously evaluated because the penetration flow path can be isolated, if needed, by a dedicated operator. The option to isolate a TIP penetration continues to be preserved and ensures the penetration will perform as assumed in the accident analysis. Operation in accordance with the proposed TS will ensure that all analyzed accidents will continue to be mitigated as previously analyzed.

Therefore, the proposed change does not involve a significant increase in the probability or consequences of an accident previously evaluated.

2. Does the proposed change create the possibility of a new or different kind of accident from any accident previously evaluated?

Response: No.

The proposed change does not involve a physical alteration to the plant (i.e., no new or different type of equipment will be installed) or a change to the methods governing normal plant operation. The changes do not alter the assumptions made in the safety analysis.

Therefore, the proposed changes do not create the possibility of a new or different kind of accident from any accident previously evaluated.

3. Does the proposed change involve a significant reduction in a margin of safety?

Response: No.

The proposed change will not affect the operation of plant equipment or the function of any equipment assumed in the accident analysis. The allowance to un-isolate a penetration flow path will not have a significant effect on a margin of safety because the penetration flow path can be isolated manually, if needed. The option to isolate a TIP penetration is preserved, and will continue to ensure the penetration will perform as assumed in the accident analysis.

Therefore, the proposed changes do not involve a significant reduction in the margin of safety.

The NRC staff has reviewed the licensee's analysis and, based on this review, it appears that the three standards of 10 CFR 50.92(c) are satisfied. Therefore, the NRC staff proposes to determine that the amendment request involves no significant hazards consideration.

Attorney for licensee: William A. Horin, Esq., Winston & Strawn, 1700 K Street, NW., Washington, DC 20006-3817.

NRC Branch Chief: Michael T. Markley.

Energy Northwest, Docket No. 50-397, Columbia Generating Station, Benton County, Washington

Date of amendment request: March 31, 2010.

Description of amendment request: The proposed change revises the Technical Specifications (TSs) to add a channel check surveillance requirement to TS 3.3.6.1, “Primary Containment Isolation Instrumentation,” for the reactor pressure vessel low water level isolation signal to the primary containment isolation valves.

Basis for proposed no significant hazards consideration determination: As required by 10 CFR 50.91(a), the licensee has provided its analysis of the issue of no significant hazards consideration, which is presented below:

1. Does the proposed amendment involve a significant increase in the probability or consequences of an accident previously evaluated?

Response: No.

Adding a channel check surveillance for the main steam low water level isolation function does not increase the probability or consequences of a previously evaluated accident. The proposed change does not impact the logic or performance of the isolation function. The proposed change increases assurance that the isolation function will be operable by providing increased monitoring.

Therefore the proposed change does not increase probability or consequences for an evaluated accident.

2. Does the proposed amendment create the possibility of a new or different kind of accident from any accident previously evaluated?

Response: No.

No modifications are being made under the proposed change that create the possibility of a new or different kind of accident. Overall system reliability is improved due to more frequent monitoring.

Therefore the proposed change does not create the possibility of new or different accidents.

3. Does the proposed amendment involve a significant reduction in a margin of safety?

Response: No.

The addition of a channel check surveillance provides increased assurance of operability of the MSIV [main steam isolation valve] low water level isolation function.

Therefore the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: William A. Horin, Esq., Winston & Strawn, 1700 K Street, NW., Washington, DC 20006-3817.

NRC Branch Chief: Michael T. Markley.

Exelon Generation Company, LLC, Docket No. 50-461, Clinton Power Station, Unit No.1, DeWitt County, Illinois

Date of amendment request: April 2, 2010.

Description of amendment request: The proposed amendment would revise the Exelon Nuclear Radiological Emergency Plan Annex for Clinton Power Station (CPS), Unit No. 1, Table B-1, “Minimum Staffing Requirements for the On-Shift Clinton Station [Emergency Response Organization] ERO,” to increase the Non-Licensed Operator (NLO) staffing from two to four, allow in-plant protective actions to be performed by personnel assigned to other functions, and replace a Mechanical Maintenance person with a NLO.

Basis for proposed no significant hazards consideration determination: As required by 10 CFR 50.91(a), the licensee has provided its analysis of the issue of no significant hazards consideration which is presented below:

1. Does the proposed amendment involve a significant increase in the probability or consequences of an accident previously evaluated?

Response: No.

The proposed changes to the CPS Emergency Plan Table B-1, “Minimum Staffing Requirements for the On-Shift Clinton Station ERO,” were evaluated against plant operations during design basis accidents, Radiation Protection (RP) personnel tasks associated with design basis accidents, and the CPS radiological accident assessment. The reallocation of functions between ERO responders and the addition of two NLOs does not reduce the minimum number of on-shift staffing, nor does it reduce or impede the tasks that are required to be performed during an emergency event. This change does not reduce the functionality of tasks required to be performed; therefore, since all personnel will be trained and qualified to perform all assigned tasks, this change does not reduce the effectiveness of the ERO's performance or the CPS Emergency Plan in mitigating the consequences of any accident.

The probability of a reactor accident requiring implementation of the CPS Emergency Plan has no relevance in determining whether the proposed change reduces the effectiveness of the CPS Emergency Plan. The Planning Basis section of NUREG-0654, Revision 1, “Criteria for Preparation and Evaluation of Radiological Emergency Response Plans and Preparedness in Support of Nuclear Power Plants,” describes how to address the likelihood of an event during the development of an emergency response plan. According to NUREG-0654, Revision 1:

The overall objective of emergency response plans is to provide dose savings (and in some cases immediate life saving) for a spectrum of accidents that could produce offsite doses in excess of Protective Action Guides (PAGs). No single specific accident sequence should be isolated as the one for which to plan because each accident could have different consequences, both in nature and degree. Further, the range of possible selection for a planning basis is very large, starting with a zero point of requiring no planning at all because significant offsite radiological accident consequences are unlikely to occur, to planning for the worst possible accident, regardless of its extremely low likelihood.

Therefore, while the proposed changes will not impact the probability or consequences of any previously evaluated accident, [Exelon Generation Company, LLC] EGC did not consider the risk insights regarding any specific accident initiation or progression in evaluating the proposed change.

Process improvements made by CPS associated with the activation of the ERO will ensure emergency responders will be available on-site in the allotted timeframe. Additionally, CPS successfully demonstrated the capability to fully staff and activate the ERO facilities in a September 16, 2004, off-hours augmentation drive-in drill. This drill confirmed that the CPS ERO is capable of being staffed, with the proposed staffing, in the allotted amount of time.

The proposed changes do not adversely affect accident initiators or precursors nor alter the design assumptions, conditions, and configuration, or the manner in which the plant is operated and maintained. The proposed changes do not adversely affect the ability of structures, systems, or components (SSCs) to perform their intended safety functions in mitigating the consequences of an initiating event within the assumed acceptance limits.

The proposed changes do not affect the source term, containment isolation, or radiological release assumptions used in evaluating the radiological consequences of any accident previously evaluated. Further, since the changes are simply a reallocation of responsibilities from one group of trained and qualified individuals to another, the proposed changes do not increase the types and amounts of radioactive effluent that may be released off site, nor significantly increase individual or cumulative occupational or public radiation exposures.

Therefore, the probability of an accident is not impacted, nor is there a significant impact on the consequences of an accident previously evaluated, introduced by the proposed changes.

2. Does the proposed amendment create the possibility of a new or different kind of accident from any accident previously evaluated?

Response: No.

The proposed changes do not involve the addition or modification of any plant equipment. Moreover, the proposed changes will not alter the design configuration, or method of operation of plant equipment beyond its normal functional capabilities. CPS ERO functions will continue to be performed as required. The proposed modification of ERO assignments does not create any new credible failure mechanisms, malfunctions, or accident initiators.

Therefore, the proposed changes do not create the possibility of a new or different kind of accident from those that have been previously evaluated.

3. Does the proposed amendment involve a significant reduction in a margin of safety?

Response: No.

The proposed changes do not alter or exceed a design basis parameter or safety limit for any system or component. No change to the setpoint or environmental condition of any SSC or the manner in which any SSC is operated is proposed. The proposed changes do not affect any of the assumptions used in any accident analysis, nor do they affect any operability requirement for equipment important to plant safety. The requirements of 10 CFR 50.47, “Emergency plans,” paragraph (b) and 10 CFR 50, Appendix E, “Emergency Planning and Preparedness for Production and Utilization Facilities,” will continue to be met.

Therefore, the proposed changes do not involve any reduction in a margin of safety.

The NRC staff has reviewed the licensee's analysis and, based on this review, it appears that the three standards of 10 CFR 50.92(c) are satisfied. Therefore, the NRC staff proposes to determine that the amendment request involves no significant hazards consideration.

Attorney for licensee: Mr. Bradley J. Fewell, Associate General Counsel, Exelon Nuclear, 4300 Winfield Road, Warrenville, IL 60555.

NRC Branch Chief: Stephen J. Campbell.

PSEG Nuclear LLC, Docket No. 50-311, Salem Nuclear Generating Station, Unit No. 2, Salem County, New Jersey

Date of amendment request: March 29, 2010.

Description of amendment request: The proposed amendment would revise the Technical Specifications (TSs) to allow a one-time replacement of the 2C 125-volt direct current (VDC) battery while Salem Unit 2 is at power.

Basis for proposed no significant hazards consideration determination: As required by 10 CFR 50.91(a), the licensee has provided its analysis of the issue of no significant hazards consideration, which is presented below:

1. Does the proposed amendment involve a significant increase in the probability or consequences of an accident previously evaluated?

Response: No.

During the replacement of the existing 2C 125VDC battery, a temporary, TS operable battery will provide the same function as the battery being removed. The temporary battery has been analyzed to comply with the required design functions of the existing 2C 125VDC battery. The temporary battery will be subjected to all required TS surveillance testing prior to being utilized to confirm operability. The temporary battery will be placed in service during the current TS AOT [allowed outage time]. The respective DC bus will be continuously energized by the existing battery charger. Consequently, the structures, systems, and components (SSCs) of the plant will continue to perform their design function. The proposed change will have no adverse affect on plant operations, or any design function or analysis.

The proposed change does not affect accident initiators or precursors, or design assumptions for the systems or components used to mitigate the consequences of an accident as analyzed in the UFSAR [Updated Final Safety Analysis Report]. The temporary battery will be operable while the permanent 2C 125VDC battery is replaced and the other divisions of DC power will also remain operable to support design mitigation capability.

Therefore, the proposed changes do not represent a significant increase in the probability or consequences of an accident previously evaluated.

2. Does the proposed change create the possibility of a new or different kind of accident from any accident previously evaluated?

Response: No.

During the replacement of the existing 2C 125VDC battery, a temporary battery will provide the same function as the 2C 125VDC battery that is being replaced. This temporary battery possesses adequate capacity to fulfill the safety-related requirements of supplying necessary power to the associated 125VDC bus. Because the temporary battery will perform like the station battery that is currently installed, no new electrical or functional failure modes are created. Equipment will be operated in the same manner that is currently allowed and designed for. Consequently, there is no change to the design function or operation of the SSCs involved and no possibility of a new or different kind of accident due to credible new failure mechanisms, malfunctions, or accident initiators not previously considered in the design and licensing bases.

The proposed one-time change does not introduce any new accident initiators or precursors or any new design assumptions for those systems or components used to mitigate the consequences of an accident.

Therefore, the proposed change does not create the possibility of a new or different kind of accident from any previously evaluated.

3. Does the proposed change involve a significant reduction in a margin of safety?

Response: No.

During the replacement of the 2C 125VDC battery, a TS operable 125VDC battery will temporarily perform the same function. The temporary replacement 125VDC battery will be assembled from the same type and manufactured safety-related Class 1E cells. The temporary replacement 125VDC battery will meet all the design requirements as the 2C 125VDC battery that it replaces. It will possess adequate capacity to fulfill the requirements of the associated 125VDC bus. The proposed replacement activity will not prevent the plant from mitigating a Design Basis Accident (DBA) during the time the temporary battery is in service. Required DC power systems supporting the design mitigation capability will be maintained. The associated DC bus will always be supplied by either the temporary battery and/or the battery charger at all times. The proposed change does not alter a design basis or safety limit; therefore it does not significantly reduce the margin of safety. The 2C 125VDC bus will continue to operate per the existing design and regulatory requirements.

Therefore, this proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Vincent Zabielski, PSEG Nuclear LLC—N21, P.O. Box 236, Hancocks Bridge, NJ 08038.

NRC Branch Chief: Harold K. Chernoff.

Tennessee Valley Authority, Docket No. 50-390, Watts Bar Nuclear Plant, Unit 1, Rhea County, Tennessee

Date of amendment request: February 24, 2010.

Description of amendment request: The proposed amendment would revise Technical Specification (TS) 3.7.11 “Control Room Emergency Air Temperature Control System (CREATCS).” The proposed change would only be applicable during plant modifications to upgrade the CREATCS chillers. This “one-time” TS change would be implemented during Watts Bar Nuclear Plant, Unit 1 Cycles 10 and 11 beginning December 1, 2010, and ending January 29, 2012.

Basis for proposed no significant hazards consideration determination: As required by 10 CFR 50.91(a), the licensee has provided its analysis of the issue of no significant hazards consideration, which is presented below:

1. Does the proposed amendment involve a significant increase in the probability or consequences of an accident previously evaluated?

Response: No.

The Control Room Emergency Air Treatment System (CREATCS) is used to maintain an acceptable environment for control room personnel and equipment during normal and emergency conditions. The proposed “one-time” Technical Specification (TS) to extend the Completion Time for loss of one train from 30 days to 60 days is justified because the additional risk of operating the plant beyond the current Completion Time of 30 days is compensated by the addition of a temporary, non-safety related cooling system with a diesel generator backup.

The CREATCS system does not have the potential to create a design basis accident as it only provides MCRHZ [main control room habitability zone] cooling and do not directly mitigate postulated accidents. Temporary cooling equipment will be designed in accordance with appropriate design controls, sized to ensure adequate cooling capacity, and located such that safety-related features would not be prevented from performing their safety function. Since the MCR chillers do not contribute to the initiators of postulated accidents, the probability of an accident is not significantly increased by the proposed change.

The MCR HVAC [heating, ventilation, and air conditioning] Systems do ensure a suitable environment for safety-related equipment and personnel during an accident. The temperature limits placed on the temporary cooling system ensure that the control room areas will remain at acceptable levels to support plant evolutions in response to postulated accidents. Safety functions that are necessary to maintain acceptable offsite dose limits will not be degraded by the proposed change. Alternate cooling methods that will maintain the control room areas well within the equipment temperature limits will ensure these safety functions. With the control room cooling requirements satisfied, the offsite dose limits are not affected.

Therefore, the proposed change does not involve a significant increase in the probability or consequences of an accident previously evaluated.

2. Does the proposed amendment create the possibility of a new or different kind of accident from any accident previously evaluated?

Response: No.

The proposed “one-time” Completion Time extension will continue to ensure that the control room ambient temperatures will not exceed 90°F. The temperature control functions for the control room are not postulated to create an accident and since the proposed change continues to maintain acceptable temperatures, no new accident initiators are created.

Implementation of temporary cooling methods will be designed such that safety-related features will not be prevented from performing their safety functions and will be in compliance with 10 CFR 50.59 requirements. Plant operation during the use of such alternate cooling methods will continue to comply with applicable Technical Specification (TS) requirements. Therefore, the proposed change does not create the possibility of a new or different kind of accident from any previously evaluated.

3. Does the proposed amendment involve a significant reduction in a margin of safety?

Response: No.

The proposed “one-time” Completion Time extension will continue to maintain control room temperatures at acceptable levels to ensure the availability of equipment necessary for safety functions. Sufficient margin to temperature limits will be maintained to ensure response to accident conditions can be managed adequately and temperatures will remain at acceptable levels to complete necessary accident mitigation actions. Plant components and their setpoints will not be altered by the proposed change that would impact the ability to respond to accident conditions. The installation of temporary cooling devices will be designed such that safety-related features would not be prevented from performing their safety function. Therefore, the proposed change does not involve a significant reduction in the margin of safety.

The NRC staff has reviewed the licensee's analysis and, based on this review, it appears that the three standards of 10 CFR 50.92(c) are satisfied. Therefore, the NRC staff proposes to determine that the amendment request involves no significant hazards consideration.

Attorney for licensee: General Counsel, Tennessee Valley Authority, 400 West Summit Hill Drive, ET 11A, Knoxville, Tennessee 37902.

NRC Branch Chief: L. Raghavan.

Notice of Issuance of Amendments to Facility Operating Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

Notice of Consideration of Issuance of Amendment to Facility Operating License, Proposed No Significant Hazards Consideration Determination, and Opportunity for A Hearing in connection with these actions was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) The applications for amendment, (2) the amendment, and (3) the Commission's related letter, Safety Evaluation and/or Environmental Assessment as indicated. All of these items are available for public inspection at the Commission's Public Document Room (PDR), located at One White Flint North, Public File Area 01F21, 11555 Rockville Pike (first floor), Rockville, Maryland. Publicly available records will be accessible from the Agencywide Documents Access and Management System (ADAMS) Public Electronic Reading Room on the internet at the NRC Web site, http://www.nrc.gov/reading-rm/adams.html. If you do not have access to ADAMS or if there are problems in accessing the documents located in ADAMS, contact the PDR Reference staff at 1 (800) 397-4209, (301) 415-4737 or by e-mail to pdr.resource@nrc.gov.

Carolina Power and Light Company, Docket No. 50-261, H. B. Robinson Steam Electric Plant, Unit No. 2, Darlington County, South Carolina

Date of application for amendment: December 16, 2009, as supplemented by letters dated March 11, 2010, and April 22, 2010.

Brief description of amendment: The amendment revises Technical Specification (TS) 5.5.9, “Steam Generator (SG) Program,” to allow inspection of the steam generator tubes to start within the tubesheet region (a minimum of 17.28 inches below the top of the tubesheet). The amendment also adds requirements in TS 5.6.8, “Steam Generator Tube Inspection Report,” to report indications in this region and primary to secondary leakage that could be attributed to the uninspected portion of the tube within the tubesheet. These changes are only applicable until the end of Operating Cycle 27.

The supplements dated March 11, 2010, and April 22, 2010, provided additional information that clarified the application, did not expand the scope of the application as originally noticed, and did not change the staff's original proposed no significant hazards consideration determination as published in the Federal Register on February 10, 2010 (75 FR 6731).

Date of issuance: May 7, 2010.

Effective date: Effective as of the date of issuance and shall be implemented by the end of Refueling Outage 26.

Amendment No.: 224.

Renewed Facility Operating License No. DPR-23: The amendment revises the technical specifications.

Date of initial notice in Federal Register: February 10, 2010 (75 FR 6731).

The Commission's related evaluation of the amendment is contained in a safety evaluation dated May 7, 2010.

Public comments received as to proposed no significant hazards consideration (NSHC): No.

Omaha Public Power District, Docket No. 50-285, Fort Calhoun Station, Unit No. 1, Washington County, Nebraska

Date of amendment request: May 29, 2009.

Brief description of amendment: The amendment modified the Technical Specifications (TSs) as follows: (1) Revised the definition for Operable-Operability; (2) modified the provisions under which equipment may be considered operable when either its normal or emergency power source is inoperable; (3) deleted TS limiting condition for operation (LCO) 2.0.1(2); (4) deleted diesel generator Surveillance Requirement 3.7.1(e); and (5) relocated the guidance for inoperable power supplies and verifying the operability of redundant components into the LCO for electrical equipment 2.7, “Electrical Systems.”

Date of issuance: May 14, 2010.

Effective date: As of the date of issuance and shall be implemented within 120 days from the date of issuance.

Amendment No.: 264.

Renewed Facility Operating License No. DPR-40: The amendment revised the Technical Specifications.

Date of initial notice in Federal Register: October 6, 2009 (74 FR 51331).

The Commission's related evaluation of the amendment is contained in a safety evaluation dated May 14, 2010.

No significant hazards consideration comments received: No.

Notice of Issuance of Amendments to Facility Operating Licenses and Final Determination of No Significant Hazards Consideration and Opportunity for a Hearing (Exigent Public Announcement or Emergency Circumstances)

During the period since publication of the last biweekly notice, the Commission has issued the following amendments. The Commission has determined for each of these amendments that the application for the amendment complies with the standards and requirements of the Atomic Energy Act of 1954, as amended (the Act), and the Commission's rules and regulations. The Commission has made appropriate findings as required by the Act and the Commission's rules and regulations in 10 CFR Chapter I, which are set forth in the license amendment.

Because of exigent or emergency circumstances associated with the date the amendment was needed, there was not time for the Commission to publish, for public comment before issuance, its usual Notice of Consideration of Issuance of Amendment, Proposed No Significant Hazards Consideration Determination, and Opportunity for a Hearing.

For exigent circumstances, the Commission has either issued a Federal Register notice providing opportunity for public comment or has used local media to provide notice to the public in the area surrounding a licensee's facility of the licensee's application and of the Commission's proposed determination of no significant hazards consideration. The Commission has provided a reasonable opportunity for the public to comment, using its best efforts to make available to the public means of communication for the public to respond quickly, and in the case of telephone comments, the comments have been recorded or transcribed as appropriate and the licensee has been informed of the public comments.

In circumstances where failure to act in a timely way would have resulted, for example, in derating or shutdown of a nuclear power plant or in prevention of either resumption of operation or of increase in power output up to the plant's licensed power level, the Commission may not have had an opportunity to provide for public comment on its no significant hazards consideration determination. In such case, the license amendment has been issued without opportunity for comment. If there has been some time for public comment but less than 30 days, the Commission may provide an opportunity for public comment. If comments have been requested, it is so stated. In either event, the State has been consulted by telephone whenever possible.

Under its regulations, the Commission may issue and make an amendment immediately effective, notwithstanding the pendency before it of a request for a hearing from any person, in advance of the holding and completion of any required hearing, where it has determined that no significant hazards consideration is involved.

The Commission has applied the standards of 10 CFR 50.92 and has made a final determination that the amendment involves no significant hazards consideration. The basis for this determination is contained in the documents related to this action. Accordingly, the amendments have been issued and made effective as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.12(b) and has made a determination based on that assessment, it is so indicated.

For further details with respect to the action see (1) The application for amendment, (2) the amendment to Facility Operating License, and (3) the Commission's related letter, Safety Evaluation and/or Environmental Assessment, as indicated. All of these items are available for public inspection at the Commission's Public Document Room (PDR), located at One White Flint North, Public File Area 01F21, 11555 Rockville Pike (first floor), Rockville, Maryland. Publicly available records will be accessible from the Agencywide Documents Access and Management System's (ADAMS) Public Electronic Reading Room on the Internet at the NRC Web site, http://www.nrc.gov/reading-rm/adams.html. If you do not have access to ADAMS or if there are problems in accessing the documents located in ADAMS, contact the PDR Reference staff at 1 (800) 397-4209, (301) 415-4737 or by e-mail to pdr.resource@nrc.gov.

The Commission is also offering an opportunity for a hearing with respect to the issuance of the amendment. Within 60 days after the date of publication of this notice, any person(s) whose interest may be affected by this action may file a request for a hearing and a petition to intervene with respect to issuance of the amendment to the subject facility operating license. Requests for a hearing and a petition for leave to intervene shall be filed in accordance with the Commission's “Rules of Practice for Domestic Licensing Proceedings” in 10 CFR Part 2. Interested person(s) should consult a current copy of 10 CFR 2.309, which is available at the Commission's PDR, located at One White Flint North, Public File Area 01F21, 11555 Rockville Pike (first floor), Rockville, Maryland, and electronically on the Internet at the NRC Web site, http://www.nrc.gov/reading-rm/doc-collections/cfr/. If there are problems in accessing the document, contact the PDR Reference staff at 1 (800) 397-4209, (301) 415-4737, or by e-mail to pdr.resource@nrc.gov. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the petitioner intends to rely in proving the contention at the hearing. The petitioner must also provide references to those specific sources and documents of which the petitioner is aware and on which the petitioner intends to rely to establish those facts or expert opinion. The petition must include sufficient information to show that a genuine dispute exists with the applicant on a material issue of law or fact.¹ Contentions shall be limited to matters within the scope of the amendment under consideration. The contention must be one which, if proven, would entitle the petitioner to relief. A requestor/petitioner who fails to satisfy these requirements with respect to at least one contention will not be permitted to participate as a party.

¹ To the extent that the applications contain attachments and supporting documents that are not publicly available because they are asserted to contain safeguards or proprietary information, petitioners desiring access to this information should contact the applicant or applicant's counsel and discuss the need for a protective order.

Each contention shall be given a separate numeric or alpha designation within one of the following groups:

1. Technical—primarily concerns/issues relating to technical and/or health and safety matters discussed or referenced in the applications.

2. Environmental—primarily concerns/issues relating to matters discussed or referenced in the environmental analysis for the applications.

3. Miscellaneous—does not fall into one of the categories outlined above.

As specified in 10 CFR 2.309, if two or more petitioners/requestors seek to co-sponsor a contention, the petitioners/requestors shall jointly designate a representative who shall have the authority to act for the petitioners/requestors with respect to that contention. If a requestor/petitioner seeks to adopt the contention of another sponsoring requestor/petitioner, the requestor/petitioner who seeks to adopt the contention must either agree that the sponsoring requestor/petitioner shall act as the representative with respect to that contention, or jointly designate with the sponsoring requestor/petitioner a representative who shall have the authority to act for the petitioners/requestors with respect to that contention.

Those permitted to intervene become parties to the proceeding, subject to any limitations in the order granting leave to intervene, and have the opportunity to participate fully in the conduct of the hearing. Since the Commission has made a final determination that the amendment involves no significant hazards consideration, if a hearing is requested, it will not stay the effectiveness of the amendment. Any hearing held would take place while the amendment is in effect.

All documents filed in NRC adjudicatory proceedings, including a request for hearing, a petition for leave to intervene, any motion or other document filed in the proceeding prior to the submission of a request for hearing or petition to intervene, and documents filed by interested governmental entities participating under 10 CFR 2.315(c), must be filed in accordance with the NRC E-Filing rule (72 FR 49139, August 28, 2007). The E-Filing process requires participants to submit and serve all adjudicatory documents over the internet, or in some cases to mail copies on electronic storage media. Participants may not submit paper copies of their filings unless they seek an exemption in accordance with the procedures described below.

To comply with the procedural requirements of E-Filing, at least ten (10) days prior to the filing deadline, the participant should contact the Office of the Secretary by e-mail at hearing.docket@nrc.gov, or by telephone at (301) 415-1677, to request (1) a digital ID certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on NRC's public Web site at http://www.nrc.gov/site-help/e-submittals/apply-certificates.html. System requirements for accessing the E-Submittal server are detailed in NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through EIE, users will be required to install a Web browser plug-in from the NRC Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with NRC guidance available on the NRC public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an e-mail notice confirming receipt of the document. The E-Filing system also distributes an e-mail notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the agency's adjudicatory E-Filing system may seek assistance by contacting the NRC Meta System Help Desk through the “Contact Us” link located on the NRC Web site at http://www.nrc.gov/site-help/e-submittals.html, by e-mail at MSHD.Resource@nrc.gov, or by a toll-free call at (866) 672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) first class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in NRC's electronic hearing docket which is available to the public at http://ehd.nrc.gov/EHD_Proceeding/home.asp, unless excluded pursuant to an order of the Commission, or the presiding officer. Participants are requested not to include personal privacy information, such as social security numbers, home addresses, or home phone numbers in their filings, unless an NRC regulation or other law requires submission of such information. With respect to copyrighted works, except for limited excerpts that serve the purpose of the adjudicatory filings and would constitute a Fair Use application, participants are requested not to include copyrighted materials in their submission.

Detroit Edison Company, Docket No. 50-341, Fermi 2, Monroe County, Michigan

Date of amendment request: May 14, 2010.

Description of amendment request: The amendment extends the Completion Time for Technical Specification 3.7.3 “Control Room Emergency Filtration (CREF) System,” Condition B, from 24 hours to 48 hours on a one-time basis to support emergent repairs to the Division 2 Return Air Fan.

Date of issuance: May 15, 2010.

Effective date: As of the date of issuance and shall be implemented within 1 day.

Amendment No.: 182.

Facility Operating License No. NPF-43: Amendment revises the technical specifications and the operating license.

Public comments requested as to proposed no significant hazards consideration (NSHC): No.

The Commission's related evaluation of the amendment, finding of emergency circumstances, state consultation, and final NSHC determination are contained in a safety evaluation dated May 15, 2010.

Attorney for licensee: David G. Pettinari, Attorney—Corporate Matters, One Energy Plaza, Detroit, MI 48226.

NRC Branch Chief: Terry A. Beltz (Acting).

Dated at Rockville, Maryland, this 24th day of May 2010.
For the Nuclear Regulatory Commission.
Joseph G. Giitter,
Director, Division of Operating Reactor Licensing, Office of Nuclear Reactor Regulation.

[FR Doc. 2010-12888 Filed 5-28-10; 8:45 am]

BILLING CODE 7590-01-P